DEPARTMENT OF TRANSPORTATION

Federal Aviation Administration

14 CFR Part 25

[Docket No. NM299; Special Conditions No. 25-283-SC]

Special Conditions: Boeing Model 767-300 Airplane; Forward Lower Deck Service/Cargo Compartment

AGENCY: Federal Aviation Administration (FAA), DOT.

ACTION: Final special conditions; request for comments.

SUMMARY: These special conditions are issued for a Boeing Model 767-300 airplane modified by Jet Aviation Engineering Services (JAES), Spring Branch, Texas. This modified airplane will have a novel or unusual design feature when compared to the state of technology envisioned in the airworthiness standards for transport category airplanes. The modification is associated with a forward lower deck compartment that will serve as both a service compartment and a Class C cargo compartment. The applicable airworthiness regulations do not contain adequate or appropriate safety standards for this design feature. These special conditions contain the additional safety standards that the Administrator considers necessary to establish a level of safety equivalent to that established by the existing airworthiness standards.

DATES: The effective date of these special conditions is February 14, 2005.

Comments must be received on or before February 28, 2005.

ADDRESSES: Comments on these special conditions may be mailed in duplicate to: Federal Aviation Administration, Transport Airplane Directorate, Attention: Rules Docket (ANM-113), Docket No. NM299, 1601 Lind Avenue SW., Renton, Washington 98055-4056; or delivered in duplicate to the Transport Airplane Directorate at the above address. All comments must be marked: Docket No. NM299.

FOR FURTHER INFORMATION CONTACT: Gerald Lakin, FAA, Standardization, ANM-113, Transport Airplane Directorate, 1601 Lind Avenue SW., Renton, Washington, 98055-4056; telephone (425) 227-1187; facsimile (425) 227-1149.

SUPPLEMENTARY INFORMATION: The FAA has determined that notice and opportunity for prior public comment hereon are impracticable, because those procedures would significantly delay issuance of the approval design and thus delivery of the affected aircraft. The FAA, therefore, finds that good cause exists for making these special conditions effective upon issuance.

Comments Invited

Interested persons are invited to submit such written data, views, or arguments as they may desire. Comments should identify the rules docket number and be submitted in duplicate to the address specified above. The Administrator will consider all comments received on or before the closing date for comments. The special conditions may be changed in light of the comments received. All comments received will be available in the Rules Docket for examination by interested persons, both before and after the closing date for comments. A report summarizing each substantive public contact with FAA personnel concerning this rulemaking will be filed in the docket. Persons wishing the FAA to acknowledge receipt of their comments submitted in response to these special conditions must include with those comments a self-addressed postcard on which the following statement is made: “Comments to Docket No. NM299. The postcard will be date stamped and returned to the commenter.

Background

On December 4, 2003, Jet Aviation Engineering Services (JAES) applied for a supplemental type certificate that would allow modification of a Boeing Model 767-300 airplane interior to an executive jet interior configuration. Boeing Model 767-300 series airplanes, currently approved under Type Certificate A1NM, are large transport category airplanes with a main passenger deck limited to 290 passengers or fewer, depending on the interior configuration. As part of the type design, certified Class C cargo compartments are installed below the main deck.

Jet Aviation Engineering Services proposes to include as part of the interior STC modification, access to the forward lower deck Class C cargo compartment and to convert that compartment for use as a combined service compartment and Class C cargo compartment (service/cargo compartment). Access will be provided by two hatches installed in the cabin floor, a primary hatch in the galley and a secondary hatch located in the crew rest area. A ladder will be installed at each hatch to provide access from the hatch to the forward lower deck service compartment floor.

Access would be limited to one trained crewmember and would be allowed during level flight, but would not be allowed during taxi, takeoff and landing or during a fire.

As part of the safety enhancement necessary to allow occupancy of the forward lower deck service/cargo compartment by a crewmember, JAES proposes the installation of warning and emergency equipment, as defined for a lower lobe service compartment in 14 CFR 25.819. Speakers, warning lights, and buzzers will be installed in the forward lower deck service/cargo compartment to warn an occupant of turbulent conditions, the presence of smoke or fire, or the need to leave the area. A crew interphone will be provided for communications with the flightdeck.

Jet Aviation Engineering Services indicates that the forward lower deck service/cargo compartment will meet the Class C cargo requirements of §§ 25.855 and 25.857. The compartment will be built using materials meeting the flammability standards for Class C cargo compartments and will have a smoke detection system. The compartment will be equipped with an approved built-in fire suppression system, which is controllable from the cockpit to eliminate the need to send someone into the compartment to fight a fire. In the event of a fire, the forward lower deck service/cargo compartment will be evacuated, and the pilot will activate the built-in fire suppression system. A means will be provided to prevent inadvertent access to the compartment when the fire suppression system has been activated.

Current regulations specify the requirements for a forward lower deck service compartment (§ 25.819) and a Class C cargo compartment (§§ 25.855 and 25.857) but the regulations did not envision a dual-purpose compartment. Currently, § 25.819 specifies that a service compartment may be occupied and does not need to be evacuated under certain normal conditions or under certain unsafe conditions (e.g., in the case of fire, the occupant could function as a firefighter). The fire control system of a service compartment, however, would not utilize a flood-type fire suppressant, since the compartment might be occupied. Section 25.857, however, specifies that a Class C cargo compartment have a fire detection system and a built-in fire suppression system, i.e., a total flood system. The applicant intends to use the compartment as a dual-purpose service/cargo compartment and intends for the operator to use the built-in systems to fight fires in every instance.

The concept of a multi-use compartment, which JAES proposes, would be acceptable if the FAA could be assured that whether the compartment is used as a service compartment or as a Class C cargo compartment, the level of safety would be equivalent to that of a separate service compartment or a separate Class C cargo compartment. Therefore, special conditions that provide an equivalent level of safety are being required. These special conditions pertain to visible and audible warnings, placards and limitations, equipment, evacuation routes, training, and the use of ladders between the main deck and the forward lower deck service/cargo compartment.

Type Certification Basis

Under the provisions of 14 CFR 21.101, Jet Aviation Engineering Services must show that the Boeing Model 767-300 airplane, as modified, continues to meet the applicable provisions of the regulations incorporated by reference in Type Certificate A1NM or the applicable regulations in effect on the date of application for the change.

The regulations incorporated by reference in the type certificate are commonly referred to as the “original type certification basis.” The regulations incorporated by reference in Type Certificate A1NM for the Boeing Model 767-300 series airplanes include 14 CFR part 25, as amended by Amendments 25-1 through 25-37 with certain additions and special conditions as listed in the type certificate data sheet. The U.S. type certification basis for the Boeing Model 767-300 series airplane is established in accordance with §§ 21.17 and 21.21 and the type certification application date.

The type certification basis listed in Type Certificate Data Sheet No. A1NM, for the Boeing Model 767-300 does not include § 25.819, which was introduced in Amendment 25-53. In this case, § 25.819 does provide appropriate safety standards for that portion of this STC's design considered a service compartment. Therefore, in lieu of applying the requirements of § 25.819 as a special condition, § 25.819 (Amendment 25-110) will be added as a requirement to this STC's certification basis.

If the Administrator finds that the applicable airworthiness regulations (i.e., 14 CFR part 25) do not contain adequate or appropriate safety standards for a Boeing Model 767-300 series airplane because of a novel or unusual design feature, special conditions are prescribed under the provisions of § 21.16.

In addition to the applicable airworthiness regulations and special conditions, the Boeing Model 767-300 must comply with the fuel vent and exhaust emission requirements of 14 CFR part 34 and the noise certification requirements of 14 CFR part 36.

Special conditions, as defined in 14 CFR 11.19, are issued in accordance with § 11.38 and become part of the type certification basis in accordance with § 21.101.

Special conditions are initially applicable to the model for which they are issued. Should the applicant apply for a supplemental type certificate to modify any other model included on the same type certificate to incorporate the same novel or unusual design feature, the special conditions would also apply to the other model under the provisions of § 21.101.

Novel or Unusual Design Features

The Boeing Model 767-300 airplane will incorporate a novel or unusual design feature; specifically, the forward lower deck compartment will be used as a combined service compartment and Class C cargo compartment.

Discussion

To allow the use of a dual-purposed service/cargo compartment, these special conditions require certain visible and audible warnings, placards and limitations, equipment, and training. The applicant has not proposed a means of satisfying regulatory requirements governing occupancy of the forward lower deck service/cargo compartment during taxi, takeoff, and landing. Therefore, the FAA will specify appropriate limitations for such occupancy. A discussion of each specific special condition follows but is limited where the specific special condition is self-explanatory:

Special Condition 1—Visible and Audible Warnings

To maintain the advantages of both a service compartment and a Class C cargo compartment, certain warnings need to be provided.

Special Condition 1a requires a visible advisory in the cockpit to notify the flightcrew when the forward lower deck service/cargo compartment is occupied. The potential exists that the forward lower deck service/cargo compartment may inadvertently be occupied when it should not be, such as during taxi, takeoff or landing or during certain emergencies. Special Condition 1a also ensures that the flightcrew is aware that the forward lower deck service/cargo compartment is occupied in order that the flightcrew can take appropriate action to evacuate the compartment before flooding it with fire suppressant. There must be a placard or sign adjacent to the warning light which indicates that the light means that the compartment is occupied.

Special Condition 1b requires an “on/off” visible warning placard stating “Do Not Enter” (or similar words) placard to be located on or near each hatch. The location should be on the main deck side of the hatch. The warning is to be controlled from the flightdeck to prevent someone from entering the forward lower deck service/cargo compartment when it should not be occupied; such as during taxi, takeoff or landing, or when smoke or fire has been detected. Opening the door during a fire would degrade the effectiveness of the fire suppressant and allow smoke, flame, and/or fire suppressant into the cabin.

Special Condition 1c requires a visible and audible warning in the forward lower deck service/cargo compartment to notify an occupant that he or she must leave the compartment. This warning must be one which can be seen and heard from any part of the compartment. The visible and audible warning is to be controlled from the flightdeck. Because the forward lower deck service/cargo compartment may be occupied on the ground or in the air, a warning must be provided to notify an occupant to leave the compartment prior to taxi, takeoff or landing or during certain emergencies (other than fire, which is dealt with under Special Condition 1e). A visible warning is required, in case the audible warning becomes masked or distorted by engine, equipment, or ground noises.

Special condition 1d requires a visible and audible warning in the forward lower deck service/cargo compartment to notify an occupant of the need to use a portable oxygen bottle in the event of decompression. This warning must be one which can be seen and heard from any part of the compartment and must be distinct from other warnings in the compartment to prevent confusion and to elicit correct action. The decompression warning must be automatic (i.e., not require separate crew action) to ensure that an occupant of the forward lower deck service/cargo compartment does not delay putting on the mask attached to the portable oxygen bottle. This section of the special conditions is partially in lieu of the visible effect provided by the automatic presentation feature required by § 25.1447.

Special Condition 1e requires a visible and audible warning in the forward lower deck service/cargo compartment when a fire is detected to notify an occupant that he or she must evacuate the compartment. The warning must be one which can be seen and heard from any part of the compartment and must be distinct from other warnings in the compartment in order to prevent confusion and to elicit the correct actions. The fire or smoke detection warning must be automatic (i.e., not require or depend on separate crew action) to ensure that an occupant of the forward lower deck service/cargo compartment leaves before the flightdeck crew releases fire suppressant in the compartment.

Special Condition 2—Placards and Limitations

The forward lower deck service/cargo compartment must be evacuated if a fire occurs. In addition, there must be a way to prevent access into the compartment during taxi, takeoff or landing or in the event of a fire. Placards and limitations are specified for these situations.

Special Condition 2a requires a placard to be located outside each hatch to the forward lower deck service/cargo compartment, indicating that access is limited to one crewmember trained in evacuation procedures.

Special Condition 2b requires placards to be located inside and outside each hatch of the forward lower deck service/cargo compartment, indicating that the compartment hatch must remain closed, except when someone is entering or leaving the compartment. The hatches should remain closed except for entering or leaving the compartment so as to not degrade the fire detection and suppression systems, which are tested and certified with the compartment hatches closed. Further, with this limitation there is less chance someone will accidentally step through an open hatch.

Special Condition 2c requires a limitation to be placed in the airplane flight manual (AFM) and placards to be posted inside and outside the hatches of the forward lower deck service/cargo compartment, all stating that (1) the compartment may not be occupied during taxi, takeoff, or landing or during a fire and (2) only authorized personnel are permitted access. These placards are being required, because the compartment is not being certified for occupancy during taxi, takeoff, or landing and because the compartment must not be occupied during a fire so that an occupant is not exposed to fire or to fire suppressant. These placards are somewhat redundant, given the warning required under Special Conditions 1b and 1c but would provide information to an occupant, if the flightcrew failed to activate the warnings of Special Conditions 1b and 1c.

Special Condition 2d requires in the AFM (or AFM supplement) instructions for the flightcrew to follow regarding—

(1) Permissible access and occupancy;

(2) The need to exit (or evacuate in the event of an incapacitated person) and discharge (flood) extinguishing agent in the compartment; and

(3) The need, after decompression warning, to immediately don the oxygen mask and exit the compartment.

These requirements are to ensure that a single member of the crew could access the cargo compartment safely during flight and exit safely during failure conditions.

Special Condition 2e. Because access is being provided to the forward lower deck service/cargo compartment, there is concern that during flight, passengers may retrieve hazardous materials or weapons stored in luggage. Access could be prevented by locking the forward lower deck service/cargo compartment, and that is being specified as one solution (in Special Condition 2e(1)). However, this airplane is being designed for use by a head-of-state, it will have limited access, and it will have placards limiting access. Furthermore, there will be notification to the flightcrew when the forward lower deck service/cargo compartment is occupied (in Special Condition 1a). Special Condition 2e(2), therefore, would prohibit the airplane from being operated for hire or offered for common carriage.

Special Condition 3—Equipment

In addition to that required by § 25.819, Special Condition 3 requires the following equipment:

Special Condition 3a requires that two portable oxygen bottles be readily available at all times and that each be sufficient to supply a member of the crew who is occupying the forward lower deck service/cargo compartment (except during taxi, takeoff, or landing, or during a fire). The supply of oxygen must be compatible with the emergency descent profile following a decompression. Because it would not be advisable to provide drop-down masks in a cargo compartment or to store a portable oxygen bottle in the compartment, the FAA is requiring that a portable oxygen bottles be mounted outside and near the main deck entrance of the forward lower deck service/cargo compartment. A member of the crew must carry the portable oxygen bottle, when he or she enters the compartment. The second bottle is for a second crewmember's use who must evacuate an incapacitated crewmember.

Special Condition 3b requires supplemental handheld lighting (with locator light) when an occupant enters the forward lower deck service/cargo compartment and any of the following three conditions exist: (1) Power to the compartment is off, (2) the emergency escape path lighting is off or lost, or (3) visibility is poor. At least two flashlights are required. One flashlight would be located adjacent to each emergency exit in the forward lower deck service/cargo compartment at the foot of the stairs in the compartment. Note that this requirement is in addition to the automatic emergency lighting system required by § 25.819(a).

Special Condition 4—Evacuation Routes

To allow the forward lower deck service/cargo compartment to be utilized as a service compartment, Special Condition 4 requires a limitation to keep the two evacuation routes required under § 25.819(a) clear for evacuation. The cargo in the compartment must be restrained to ensure that the crewmember's paths to the exits are clear. Further, all entrances and exits (hatches) from the forward lower deck service/cargo compartment must be capable of being opened and closed, without obstruction. This allows exiting under emergency conditions. Further, the hatches must be able to be closed to maintain the integrity of the compartment with respect to fire detection and with respect to smoke, fire and extinguishing agent containment requirements applicable to the Class C cargo compartment, including §§ 25.855, 25.857, and 25.858. Also see Special Condition 2b.

Special Condition 5—Training

Because the design features required by these special conditions can fulfill their safety objectives only if crewmembers are properly trained in their use, these special conditions require the applicant to develop the following training materials:

Special Condition 5a requires training materials about use of the forward lower deck service/cargo compartment and actions associated with the warnings and placards required by these special conditions.

Special Condition 5b requires training materials about entering and exiting the forward lower deck service/cargo compartment, including emergency exiting, (associated with Special Conditions 1b, 1c, 1d, 1e, 2a, 2b, 2c, 2d, and 3a).

Special Condition 5c requires training materials about checking the pressure of the portable oxygen bottle prior to entering the forward lower deck service/cargo compartment (associated with Special Condition 3a).

Special Condition 5d requires training materials about carrying a portable oxygen bottle when entering the forward lower deck service/cargo compartment (associated with Special Condition 3a).

Special Condition 5e requires training materials about maintaining an exit aisle and access to the evacuation routes from the lower lobe service/cargo compartment (associated with Special Condition 2f and 4).

Special Condition 5f requires a limitation in the AFM (or AFM supplement) stating all personnel accessing the forward lower deck service/cargo compartment must be trained in the procedures specified above. Special Condition 5f also states there should be at least two crewmembers (not the pilot or co-pilot) trained in emergency evacuation procedures. The second person is to aid the evacuation of an incapacitated crewmember should that occur.

Special Condition 6—Ladders

The ladders between the forward lower deck service/cargo compartment and the main deck must meet the following requirements:

Special Condition 6a requires that each ladder consist of a single segment (to minimize potential errors of use).

Special Condition 6b requires that the ladders have essentially rectangular treads (to reduce the potential to slip).

Special Condition 6c requires that general illumination of at least 0.05 foot-candle, when measured along the centerlines of each tread, be provided, when the ladders are to be used (to facilitate evacuation and reduce miss-steps).

Applicability

As discussed above, these special conditions are applicable to the Boeing Model 767-300 airplane. Should JAES apply at a later date for a supplemental type certificate to modify any other model included on Type Certificate A1NM to incorporate the same novel or unusual design feature, the special conditions would apply to that model as well under the provisions of § 21.101.

Conclusion

This action affects only certain novel or unusual design features on one model of airplane. It is not a rule of general applicability, and it affects only the applicant which applied to the FAA for approval of these features on the airplane.

Under standard practice, the effective date of final special conditions would be 30 days after the date of publication in the Federal Register. However, as the certification date for the Boeing Model 767-300, as modified by JAES, is imminent, the FAA finds, that good cause exists to make these special conditions effective upon issuance.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for the Boeing Model 767-300 airplane, modified by Jet Aviation Engineering Services, to include a forward lower deck compartment configured for use as both a service compartment and a Class C cargo compartment.

1. Visible and Audible Warnings

In addition to the audible warnings (fire/smoke detection and decompression) required by § 25.819(c), the following warnings are required:

a. A visible advisory in the cockpit to notify the flightcrew when the forward lower deck service/cargo compartment is occupied. The advisory light must be accompanied by a placard or message indicating that the compartment is occupied.

b. A (on/off) visible warning placard stating “Do Not Enter” (or similar words) to be located on or near each hatch. The location should be on the main deck side of the hatch. The warning is to be controlled from the flightdeck.

c. A visible and audible warning in the forward lower deck service/cargo compartment to notify an occupant when he or she must evacuate the compartment. The warning must be one which can be seen and heard from any part of the compartment. The warning is to be controlled from the flightdeck.

d. A visible and audible warning in the forward lower deck service/cargo compartment, which in the event of decompression, warns an occupant of the need to use a portable oxygen bottle. This warning must be one which can be seen and heard from any part of the compartment and must be distinct from other warnings in the compartment. The decompression warning must be automatic (i.e., not require separate crew action), to ensure that an occupant of the forward lower deck service/cargo compartment does not delay using a portable oxygen bottle. This section of the special conditions is partially in lieu of the visible effect provided by the automatic presentation feature required by § 25.1447.

e. A visible and audible warning in the forward lower deck service/cargo compartment, which in the event of a fire, warns an occupant of the need to evacuate the compartment. This warning must be one which can be seen and heard from any part of the compartment and should be distinct from other warnings in the compartment. The fire or smoke detection warning must be automatic (i.e., not require a separate crew action) to ensure that an occupant of the forward lower deck service/cargo compartment leaves before the flightdeck crew releases fire suppressant.

2. Placards and Limitations

In addition to those required in part 25, the following placards and limitations are required:

a. A placard located outside each hatch to the forward lower deck service/cargo compartment, indicating that access to the compartment is limited to one crewmember trained in evacuation procedures.

b. A placard located inside and outside each hatch to the forward lower deck service/cargo compartment, indicating that the compartment hatches must remain closed, except when someone is entering or leaving the compartment.

c. A limitation in the AFM and a placard located inside and outside each hatch to the forward lower deck service/cargo compartment, all stating that (1) the forward lower deck service/cargo compartment must not be occupied during taxi, takeoff, or landing or during a fire, and (2) only authorized personnel are permitted access.

d. Instructions in the AFM (or AFM supplement) for the flightcrew to follow regarding—

(1) Permissible access and occupancy of the forward lower deck service/cargo compartment;

(2) The need to exit (or evacuate in the event of an incapacitated person) and discharge (flood) extinguishing agent in the compartment; and

(3) The need, after decompression warning, to immediately don the oxygen mask and exit the compartment.

e. A Limitation in the AFM supplement stating that:

“Carriage of hazardous material and/or weapons in the forward lower deck service/cargo compartment is prohibited unless the following conditions are met:

(1) The forward lower deck service compartment is locked during flight, and the key remains with the flightcrew, or

(2) The airplane is not operated for hire or offered for common carriage. This provision does not preclude the operator from receiving remuneration to the extent consistent with 14 CFR part 125, and 14 CFR part 91, and subpart F, as applicable.”

3. Equipment

In addition to that required by §§ 25.819, the following equipment is required:

a. Two portable oxygen bottles with masks must be readily available outside and near the primary main deck entrance (hatch) of the forward lower deck service/cargo compartment. Either portable oxygen bottle must be sufficient to supply a member of the crew who is occupying the forward lower deck service/cargo compartment and a bottle with mask attached must be carried by the crewmember when in the compartment. The second bottle is for the crewmember's use who must evacuate an incapacitated crewmember.

b. Flashlights or other supplemental handheld lighting, in addition to the emergency illumination required by § 25.819(a). At least two flashlights, each equipped with a locator light, must be provided. A flashlight must be located adjacent to each emergency exit (hatch) at the foot of the ladder in the forward lower deck service/cargo compartment.

4. Evacuation Routes

A limitation must be placed in the AFM (or AFM supplement) stating that:

When the forward lower deck service/cargo compartment is operated as a service compartment, the two evacuation routes must be kept clear, the special storage pallets/containers must be installed, no loose storage is permitted, and all items stored in the compartment must be stored in appropriate pallets/containers (or similar words).

Similar loading restrictions should be placed in the weight and balance manual.

5. Training

Training manuals must be provided for authorized crewmembers that may enter the forward lower deck service/cargo compartment and the manuals and training shall include:

a. Use of the forward lower deck service/service compartment and actions indicated by the warnings and placards specified herein.

b. Entering and exiting the forward lower deck service/cargo compartment, including emergency exiting.

c. Checking the pressure of the portable oxygen bottle prior to entering the forward lower deck service/cargo compartment.

d. Carrying a portable oxygen bottle when entering the forward lower deck service/ cargo compartment.

e. Maintaining an exit aisle and access to evacuation routes from the forward lower deck service/cargo compartment. Training must address how to keep the evacuation routes clear, i.e., how to restrain cargo in the compartment to ensure that the paths to the exits (hatches) are clear.

f. A limitation in the AFM supplement stating that all personnel accessing the forward lower deck service/cargo compartment must be trained in the procedures listed above. To facilitate the evacuation of an incapacitated person, there should be at least two crewmembers (not the pilot or co-pilot) trained in the emergency procedures for the forward lower deck service/cargo compartment.

6. Ladders

The following requirements must be met for ladders installed between the main deck and the forward lower deck service/cargo compartment:

a. Each ladder must consist of a single segment.

b. The ladders must have essentially rectangular treads.

c. General illumination of at least 0.05 foot-candle, when measured along the centerlines of each ladder tread, must be provided when the ladders are to be used.

Issued in Renton, Washington, on January 5, 2005.
Ali Bahrami,
Manager, Transport Airplane Directorate, Aircraft Certification Service.

[FR Doc. 05-660 Filed 1-12-05; 8:45 am]

BILLING CODE 4910-13-P